DEPARTMENT OF COMMERCE

National Oceanic and Atmospheric Administration

50 CFR Part 660

[I.D. 111505C]

Fisheries off West Coast States and in the Western Pacific; Bottomfish Fisheries; Overfishing Determination on Bottomfish Multi-Species Stock Complex; Hawaiian Archipelago

AGENCY: National Marine Fisheries Service (NMFS), National Oceanic and Atmospheric Administration (NOAA), Commerce.

ACTION: Notice of intent to prepare a supplemental environmental impact statement; notice of scoping meetings; request for comment.

SUMMARY: Pursuant to the National Environmental Policy Act (NEPA) and regulations published by the Council on Environmental Quality (40 CFR part 1505), NMFS, in coordination with the Western Pacific Fishery Management Council (Council), is preparing a Supplemental Environmental Impact Statement (SEIS). The SEIS will supplement the Final Environmental Impact Statement (FEIS) Bottomfish and Seamount Groundfish Fishery of the Western Pacific Region. The SEIS will analyze a range of alternatives to end overfishing in the bottomfish species complex in the Hawaiian Archipelago.

DATES: Public scoping meetings will be held: January 9, 2006, in Hilo, HI; January 10, 2006 in Kona, HI; January 11, 2006, in Kahului, HI; January 12, 2006 in Honolulu, HI; and January 13, 2006 in Lihue, HI. See SUPPLEMENTARY INFORMATION for specific times and locations of hearings. Comments on the issues, range of alternatives, and impacts that should be analyzed in the SEIS must be received by January 16, 2006.

ADDRESSES: Submit written comment or requests to be added to the mailing list for this SEIS to William L. Robinson, Regional Administrator, NMFS, Pacific Islands Region, 1601 Kapiolani Blvd., Suite 1110, Honolulu HI 96814; or to Kitty Simonds, Executive Director, Council, 1164 Bishop St. Suite 1400, Honolulu, HI 96813. Comments or requests may also be sent via facsimile (fax) to the Pacific Islands Regional Office at (808) 973-2941 or to the Council at (808) 522-8228. You may also submit comments via email at PirBottomfishNOI@noaa.gov or through the Federal eRulemaking Portal at http://www.regulations.gov. The Council's scoping document on the overfishing determination for the bottomfish species complex in the Hawaiian Archipelago may also be obtained from the Council's office at the address above or via the Internet at http://www.wpcouncil.org.

FOR FURTHER INFORMATION CONTACT: William L. Robinson, Regional Administrator, NMFS, (808) 973-2937 or Kitty Simonds, Executive Director, Council, (808) 522-8220.

SUPPLEMENTARY INFORMATION: The Magnuson-Stevens Fishery Conservation and Management Act (Magnuson-Stevens Act) requires the Secretary of Commerce to report annually on the status of fisheries within each regional fishery management council's geographical area of authority (16 U.S.C. 1854(e)(1)). According to the guidelines for National Standard 1 of the Magnuson-Stevens Act (50 CFR 600.310), fishery stock status is assessed with respect to two status determination criteria, one of which is used to determine whether a stock is overfished and the second of which is used to determine whether the stock is subject to overfishing. A stock is subject to overfishing if the fishing mortality rate exceeds the maximum fishing mortality threshold (MFMT) for one year. The MFMT for particular stocks are specified in fishery management plans.

According to Amendment 6 Supplement to the Fishery Management Plan for the Bottomfish and Seamount Groundfish Fisheries of the Western Pacific Region (Bottomfish FMP), effective July 3, 2003 (68 FR 46112, August 5, 2003), the MFMT for bottomfish stock complexes managed under the Bottomfish FMP would be exceeded if the fishing mortality rate exceeded the rate associated with maximum sustainable yield (MSY). The most recent assessment of the bottomfish species complex presented in Appendix 5 of the Bottomfish and Seamount Groundfish Fisheries of the Western Pacific Region 2003 Annual Report indicated that, based on data through 2002, fishing effort (proxy for fishing mortality) exceeded the rate associated with MSY.

Appendix 5 in the 2003 Annual Report indicates that the main Hawaiian islands (MHI) is where the excessive fishing mortality problem occurs. The Northwestern Hawaiian Islands (NWHI) bottomfish fishery is managed under an Bottomfish FMP-authorized limited entry program, separated into two limited entry zones (Hoomalu and Mau). In 2004, nine vessels participated in the NWHI bottomfish fishery. In contrast, the MHI is an open access fishery regulated by the State of Hawaii with over 3,700 vessels registered with the State of Hawaii to fish for bottomfish. Therefore, it is likely that reducing fishing mortality in the MHI would be the most effective means to end overfishing in the Hawaiian Archipelago.

On May 27, 2005, the Pacific Islands Regional Administrator, NMFS, notified the Council that NMFS had determined that the bottomfish species complex around the Hawaiian Archipelago to be in a state of overfishing (70 FR 34552, June 14, 2005). Section 304 (e) (3) of the Magnuson-Stevens Act states that “[w]ithin one year of an identification [of overfishing] . . . the appropriate Council . . . shall prepare a fishery management plan, plan amendment, or proposed regulations for the fishery . . . to end overfishing in the fishery . . . . ”

As required by the Magnuson-Stevens Act, the Council is required to prepare and submit to NMFS a fishery management plan amendment to end overfishing of the bottomfish complex around the Hawaiian Archipelago.

Significant issues to be analyzed in the SEIS will include, but will not necessarily be limited to, effects on targeted species, bycatch, federally listed threatened and endangered species, Hawaii state fishery management policies, fishing for bottomfish in State waters, incidental catch of bottomfish species in other fisheries, and essential fish habitat. Other issues will be health and safety, water quality, environmental justice, cultural and socio-economic, and any other issues identified through scoping and public involvement.

Alternatives that may be considered in detail in the SEIS are likely to include, but will not necessarily be limited to:

Alternative 1: No Action: In 1998 the State of Hawaii created bottomfish closed areas to reduce effort in the MHI. The closure applied to seven deep water bottomfish species (onaga, ehu, gindai, kalekale, hapuupuu, opakapaka, and lehi) commonly targeted using deep handline gear. Since 1998 a consistent downward trend in effort has occurred in the bottomfish fishery in the MHI. This alternative continues to support those closed areas which extend into Federal waters.

Alternative 2: Alternative 2 would overlay Federal closures on the State of Hawaii's Restricted Fishing Areas in Federal waters. This action would provide for Federal enforcement of the closures in addition to current State of Hawaii's enforcement.

Alternative 3: This alternative would close the Federal waters around Penguin and Middle Banks to bottomfishing. This alternative would prohibit the targeting of, the landing of, and the sale of the seven deep slope bottomfish species identified in Alternative 1 from Penguin and Middle Banks. The closure would apply to all recreational and commercial vessels.

Alternative 4: Alternative 4 would create a MHI bottomfish fishery seasonal closure. This alternative would prohibit the targeting of, the landing of, and the sale of the seven deep slope bottomfish species identified in Alternative 1 from the MHI. Closure would apply to all recreational and commercial vessels. Under this alternative, the federally permitted NWHI bottomfish fishery will remain open during MHI closures.

Alternative 5: This alternative would establish total allowable catch for all commercial fishing boats in the MHI.

Alternative 6: This alternative would establish individual fishing quotas for all commercial fishing boats in the MHI. Recreational vessels would continue to be subject to the catch limits established by the State of Hawaii.

Alternative 7: This alternative combines the use of seasonal closures (Alternative 4) and individual fishing quotas (Alternative 6) for commercial vessels during the seasonal closure.

Alternative 8: This alternative combines use of seasonal closures (Alternative 4) and a partial closure of Penguin Banks (Alternative 3).

The public is invited to assist in developing the scope of alternatives to be analyzed, and to provide other relevant information on the subject of ending overfishing of this complex.

Dates, Times, and Locations for Public Scoping Meetings

1. Hilo, HI - Monday, January 9, 2006, from 6-9 p.m. at the University of Hawaii-Hilo Campus Center, 200 W. Kawili St., Hilo, Hawaii 96720;

2. Kona, HI - Tuesday, January 10, 2006, from 6-9 p.m. at the King Kamehameha Hotel, 75-5660 Palani Rd., Kona, HI 96740;

3. Maui, HI - Wednesday, January 11, 2006, from 6-9 p.m. at the Maui Beach Hotel, 170 Kaahumanu Ave., Kahului, HI 96732;

4. Oahu, HI - Thursday, January 12, 2006, from 6-9 p.m. at the Ala Moana Hotel, 410 Atkinson Dr., Honolulu, HI 96815;

5. Kauai, HI - Friday, January 13, 2006, from 6-9 p.m. at Chiefess Kamakahelei Middle School, 4431 Nuhou St., Lihue, HI 96766.

To receive a copy of the Draft SEIS, please provide your name and address in writing to the point of contact identified in this notice. An electronic version of the Draft SEIS, when completed, will also be available by internet at the following sites: http://swr.nmfs.noaa.gov/pir or at www.wpcouncil.org. or

Special Accommodations

These meetings are physically accessible to people with disabilities. Requests for sign language interpretation or other auxiliary aids should be directed to Kitty M. Simonds, 808-522-8220 (voice) or 808-522-8226 (fax), at least five days prior to the meeting date.

Authority: 16 U.S.C. 1801 et seq.

Dated: November 21, 2005.
Alan D. Risenhoover,
Acting Director, Office of Sustainable Fisheries, National Marine Fisheries Service.

[FR Doc. 05-23363 Filed 11-25-05; 8:45 am]

BILLING CODE 3510-22-S